DEPARTMENT OF HEALTH AND HUMAN SERVICES

Centers for Disease Control and Prevention

[30Day-17-0004]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Disease Surveillance Program II. Disease Summaries (OMB Control Number 0920-0004, Expires 10/31/2017)—Revision—National Center for Immunization and Respiratory Diseases, Centers for Disease Control and Prevention (CDC).

Background and Brief Description

CDC requests a three-year approval for the proposed revision of the “National Disease Surveillance Program II. Disease Summaries” information collection project.

As with the previous approval, these data are essential for measuring trends in diseases, evaluating the effectiveness of current preventive strategies, and determining the need to modify current preventive measures.

Diseases included in this surveillance program are Influenza Virus, Caliciviruses, Respiratory and Enteric Viruses, Foodborne Outbreaks, Waterborne Outbreaks and Enteroviruses.

Proposed revisions include form consolidation, minor revised language and rewording to improve clarity and readability of the data collection forms and the discontinuation of multiple previously approved influenza collection instruments, and the National Respiratory & Enteric Virus Surveillance System (NREVSS) Laboratory Assessment (CDC 55.83). CDC also requests the use of a new form, Suspect Respiratory Virus Patient Form, to assist health departments and clinical sites when they submit specimens to the CDC lab for viral pathogen identification. The data will enable rapid detection and characterization of outbreaks of known pathogens, as well as potential newly emerging viral pathogens.

The frequency of response for each form will depend on the disease and surveillance need. This represents a 7,116 burden hour reduction since last approval. This reduction in burden hours is attributed primarily to the discontinuation of previously approved forms and formatting changes to existing forms. The total time burden estimate for all collection instruments in this revision request is 24,805.

There are no costs to the respondents other than their time.

Estimated Annualized Burden Hours
Type of respondent | Form name | Number of respondents | Number of responses per respondent | Avg. burden per response (in hours)
Epidemiologist | NORS Foodborne Disease Transmission_Person to Person Disease Transmission_Animal Contact_Environmental Contamination_Unknown Transmission Mode_52.13 | 54 | 37 | 20/60
Epidemiologist | WHO COLLABORATING CENTER FOR INFLUENZA Influenza Virus Surveillance | 53 | 52 | 10/60
Epidemiologist | U.S. WHO Collaborating Laboratories Influenza Testing Methods Assessment | 113 | 1 | 10/60
Epidemiologist | US Outpatient Influenza-like Illness Surveillance Network (ILINet) Weekly_CDC 55.20 | 1,800 | 52 | 10/60
Epidemiologist | US Outpatient Influenza-like Illness Surveillance Network (ILINet) Workfolder 55.20E | 1800 | 1 | 5/60
Epidemiologist | Influenza-Associated Pediatric Mortality Case Report Form | 57 | 2 | 30/60
Epidemiologist | Human Infection with Novel Influenza A Virus Case Report Form | 57 | 2 | 30/60
Epidemiologist | Human Infection with Novel Influenza A Virus Severe Outcomes | 57 | 1 | 90/60
Epidemiologist | Novel Influenza A Virus Case Screening Form | 57 | 1 | 15/60
Epidemiologist | Antiviral Resistant Influenza Infection Case Report Form | 57 | 3 | 30/60
Epidemiologist | National Respiratory & Enteric Virus Surveillance System (NREVSS) (55.83A, B, D) (electronic) | 550 | 52 | 15/60
Epidemiologist | National Enterovirus Surveillance Report: (CDC 55.9) (electronic) | 20 | 12 | 15/60
Epidemiologist | National Adenovirus Type Reporting System (NATRS) | 13 | 4 | 15/60
Epidemiologist | Middle East Respiratory Syndrome (MERS) Patient Under Investigation (PUI) Short Form | 57 | 3 | 25/60
Epidemiologist | Viral Gastroenteritis Outbreak Submission Form | 20 | 5 | 5/60
Epidemiologist | NORS Waterborne Disease Transmission Form_52.12 | 59 | 1 | 20/60
Epidemiologist | Influenza Virus (Electronic, Year Round), PHLIP_HL7 messaging Data Elements | 57 | 52 | 5/60
Epidemiologist | Influenza virus (electronic, year round) (PHIN-MS) | 3 | 52 | 5/60
Epidemiologist | Suspect Respiratory Virus Patient Form | 10 | 5 | 30/60

Leroy A. Richardson,
Chief, Information Collection Review Office, Office of Scientific Integrity, Office of the Associate Director for Science, Office of the Director, Centers for Disease Control and Prevention.

[FR Doc. 2017-18407 Filed 8-29-17; 8:45 am]

BILLING CODE 4163-18-P